SECURITIES AND EXCHANGE COMMISSION

[SEC File No. 270-155, OMB Control No. 3235-0123]

Submission for OMB Review; Comment Request; Extension: Rule 17a-5

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) a request for extension of the previously approved collection of information discussed below.

Rule 17a-5 (17 CFR 240.17a-5) under the Securities Exchange Act of 1934 (15 U.S.C. 78a et seq.) is the basic financial reporting rule for brokers and dealers.¹ The rule requires the filing of Form X-17A-5, the Financial and Operational Combined Uniform Single Report (“FOCUS Report”), which was the result of years of study and comments by representatives of the securities industry through advisory committees and through the normal rule proposal methods. The FOCUS Report was designed to eliminate the overlapping regulatory reports required by various self-regulatory organizations and the Commission and to reduce reporting burdens as much as possible. The rule also requires the filing of annual reports, which include a financial report and a compliance or exemption report as well as reports of an independent public accountant covering the financial report and the compliance or exemption report. In addition, the rule requires a broker-dealer that computes certain capital charges in accordance with Appendix E to Exchange Act Rule 15c3-1 (17 CFR 240.15c3-1e) to file additional monthly or quarterly reports and a supplemental report on management controls concurrently with its annual reports.

¹ Rule 17a-5(c) requires a broker or dealer to furnish certain of its financial information to customers and is subject to a separate PRA filing (OMB Control Number 3235-0199).

The Commission estimates that the total hour burden under Rule 17a-5 is approximately 397,467 hours per year, and the total cost burden is approximately $31,295,048 per year. Since the last approval of this information collection, the estimated total burden hours per year has increased due to more respondents filing monthly reports rather than quarterly reports under Rule 17a-5; the estimated total cost burden per year has decreased due to more filings being submitted electronically.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by November 15, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: October 10, 2023.
Sherry R. Haywood,
Assistant Secretary.

[FR Doc. 2023-22733 Filed 10-13-23; 8:45 am]

BILLING CODE 8011-01-P